DEPARTMENT OF HEALTH AND HUMAN SERVICES

Centers for Disease Control and Prevention

[30Day-07-05CI]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

CDC Oral Health Management Information System—New—Division of Oral Health (DOH), National Center for Chronic Disease Prevention and Public Health Promotion (NCCDPHP), Centers for Disease Control and Prevention (CDC).

Background and Brief Description

The CDC seeks to improve the oral health of the nation by targeting efforts to improve the infrastructure of state and territorial oral health departments, strengthen and enhance program capacity related to monitoring the population's oral health status and behaviors, develop effective programs to improve the oral health of children and adults, evaluate program accomplishments, and inform key stakeholders, including policy makers, of program results. Through a cooperative agreement program (Program Announcement 03022), CDC provides approximately $3 million per year over 5 years to 12 states and one territory to strengthen the state's core oral health infrastructure and capacity and reduce health disparities among high-risk groups. The CDC is authorized to do this under sections 301 and 317(k) of the Public Health Service Act [42 U.S.C. 241 and 247b(k)].

NCCDPHP is currently pursuing a key initiative to improve the efficiency and effectiveness of CDC project officers who oversee the State and territorial oral health programs by developing an information system to support program management, consulting and evaluation. Information systems provide a central repository of information, such as the plans of the State or territorial oral health programs (their goals, objectives, performance milestones and indicators), as well as state and territorial oral health performance activities including programmatic and financial information.

There are no costs to the respondents other than their time. The total estimated annualized burden hours are 234.

Estimated Annualized Burden Table
Type of responses or kinds of respondents | Number of respondents | Number of responses per respondent | Average burden per response (in hours)
Semi-Annual Report | 13 | 2 | 9

Dated: February 5, 2007.
Joan F. Karr,
Acting Reports Clearance Officer, Centers for Disease Control and Prevention.

[FR Doc. E7-2177 Filed 2-8-07; 8:45 am]

BILLING CODE 4163-18-P